DEPARTMENT OF TRANSPORTATION

Federal Aviation Administration

14 CFR Part 39

[Docket No. FAA-2013-0981; Directorate Identifier 2013-NM-032-AD]

RIN 2120-AA64

Airworthiness Directives; The Boeing Company Airplanes

AGENCY: Federal Aviation Administration (FAA), Department of Transportation (DOT).

ACTION: Notice of proposed rulemaking (NPRM); reopening of comment period.

SUMMARY: This document announces the reopening of the comment period for the above-referenced NPRM, which proposed the adoption of a new airworthiness directive (AD) that applies to all The Boeing Company Model MD-90-30 airplanes and that would supersede AD 97-11-07 and AD 99-18-23. The NPRM proposed to continue to require revising the Airworthiness Limitations Section (ALS) of the Instructions for Continued Airworthiness to incorporate certain compliance times for principal structural elements (PSE) inspections and replacement times for safe-life limited parts. The NPRM also proposed to require revising the maintenance or inspection program to incorporate a new PSE requirement for the rear spar caps of the horizontal stabilizer and its associated inspections. This reopening of the comment period is necessary to ensure that all interested persons have ample opportunity to submit any written relevant data, views, or arguments regarding the proposed requirements of the NPRM.

DATES: We must receive comments on this NPRM (78 FR 73739, December 9, 2013) by May 6, 2014.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

Examining the AD Docket

You may examine the AD docket on the Internet at http://www.regulations.gov by searching for and locating Docket No. FAA-2013-0981; or in person at the Docket Management Facility between 9 a.m. and 5 p.m., Monday through Friday, except Federal holidays. The AD docket contains this AD action, the regulatory evaluation, any comments received, and other information. The street address for the Docket Office (telephone 800-647-5527) is in the ADDRESSES section. Comments will be available in the AD docket shortly after receipt.

FOR FURTHER INFORMATION CONTACT: Roger Durbin, Airframe Branch, ANM-120L, FAA, Los Angeles Aircraft Certification Office (ACO), 3960 Paramount Boulevard, Lakewood, CA 90712-4137; phone: (562) 627-5233; fax: (562) 627-5210; email: roger.durbin@faa.gov.

SUPPLEMENTARY INFORMATION: We proposed to amend 14 CFR Part 39 by adding a notice of proposed rulemaking (NPRM) that would apply to all The Boeing Company Model MD-90-30 airplanes. The NPRM was published in the Federal Register on December 9, 2013 (78 FR 73739). The NPRM proposed to supersede AD 97-11-07, Amendment 39-10036 (62 FR 27941, May 22, 1997); and AD 99-18-23, Amendment 39-11289 (64 FR 48284, September 3, 1999). The NPRM proposed to continue to require revising the Airworthiness Limitations Section (ALS) of the Instructions for Continued Airworthiness to incorporate certain compliance times for principal structural elements (PSE) inspections and replacement times for safe-life limited parts. The NPRM also proposed to require revising the maintenance or inspection program to incorporate a new PSE requirement for the rear spar caps of the horizontal stabilizer and its associated inspections. The NPRM also invites comments on its overall regulatory, economic, environmental, and energy aspects.

Events Leading to the Reopening of the Comment Period

Since we issued the NPRM (78 FR 73739, December 9, 2013), we have determined that the Relevant Service Information section in the preamble of the NPRM did not adequately describe the service information. We specified to see the service information, Boeing MD-90 Airworthiness Limitations Instructions (ALI) Report No. MDC-94K9000, Revision 6, dated September 2011, at http://www.regulations.gov. However, we did not post the service information at http://www.regulations.gov because we do not have clearance to post Boeing MD-90 Airworthiness Limitations Instructions (ALI) Report No. MDC-94K9000, Revision 6, dated September 2011, at the NPRM stage of the AD process.

Description of Service Information

Boeing MD-90 Airworthiness Limitations Instructions (ALI) Report No. MDC-94K9000, Revision 6, dated September 2011, describes PSE inspections, compliance times, and replacement times for safe-life limited parts, which are required by AD 97-11-07, Amendment 39-10036 (62 FR 27941, May 22, 1997); and AD 99-18-23, Amendment 39-11289 (64 FR 48284, September 3, 1999). Boeing MD-90 Airworthiness Limitations Instructions (ALI) Report No. MDC-94K9000, Revision 6, dated September 2011, also describes a new PSE requirement for the rear spar of the horizontal stabilizer and its associated inspections.

FAA's Determination

We considered it necessary to adequately describe the service information and found it appropriate to reopen the comment period to give all interested persons additional time to examine the proposed requirements of the NPRM (78 FR 73739, December 9, 2013) and submit comments. We have determined that reopening the comment period for 25 days will not compromise the safety of these airplanes.

Extension of Comment Period

The comment period for Docket No. FAA-2013-0981, Directorate Identifier 2013-NM-032-AD, has been revised. The comment period now closes May 6, 2014.

No other part of the regulatory information has been changed; therefore, the NPRM (78 FR 73739, December 9, 2013) is not republished in the Federal Register.

Issued in Renton, Washington, on April 4, 2014.
Michael J. Kaszycki,
Acting Manager, Transport Airplane Directorate, Aircraft Certification Service.

[FR Doc. 2014-08144 Filed 4-10-14; 8:45 am]

BILLING CODE 4910-13-P